DEPARTMENT OF COMMERCE

National Oceanic and Atmospheric Administration

Solicitation for Members of the NOAA Science Advisory Board

AGENCY: Office of Oceanic and Atmospheric Research (OAR), National Oceanic and Atmospheric Administration (NOAA), Department of Commerce (DOC).

ACTION: Notice of solicitation for members of the NOAA Science Advisory Board.

SUMMARY: NOAA is soliciting nominations for members of the NOAA Science Advisory Board (SAB). The SAB is the only Federal Advisory Committee with the responsibility to advise the Under Secretary of Commerce for Oceans, Atmosphere, and NOAA Administrator on long and short range strategies for research, education, and application of science to resource management and environmental assessment and prediction. The SAB consists of approximately fifteen members reflecting the full breadth of NOAA's areas of responsibility and assists NOAA in maintaining a complete and accurate understanding of scientific issues critical to the agency's missions.

DATES: Nominations should be sent to the web address specified below and must be received by June 15, 2023.

ADDRESSES: Applications should be submitted electronically to noaa.scienceadvisoryboard@noaa.gov.

FOR FURTHER INFORMATION CONTACT: Dr. Cynthia Decker, Executive Director, Science Advisory Board, NOAA, Rm. 11230, 1315 East-West Highway, Silver Spring, Maryland 20910. (Phone: 301-734-1156), Fax: 301-713-1459, Email: Cynthia.Decker@noaa.gov); or visit the NOAA SAB website at http://www.sab.noaa.gov.

SUPPLEMENTARY INFORMATION: At this time, individuals are sought with expertise in an artificial intelligence and machine learning in the fields of weather and climate; environmental remote sensing; engineering for coastal resilience; social and behavioral sciences; and tropical cyclones. Individuals with expertise in other NOAA mission areas are also welcome to apply.

NOAA is also interested in expanding the diversity of expertise represented on the SAB in order to reflect better the viewpoints of the United States population. The agency welcomes scientists in the listed areas of expertise and can also provide insights and experiences derived from their ethnic, gender, and racial backgrounds and races, native- and tribal-based traditions, and experiences of those who are differently abled. Composition and Points of View: The board will consist of approximately fifteen members including a Chair, designated by the Under Secretary in accordance with FACA requirements.

Members will be appointed for three-year terms, renewable once, and serve at the discretion of the Under Secretary.

Members will be appointed as special government employees (SGEs) and will be subject to the ethical standards applicable to SGEs. Members are reimbursed for actual and reasonable travel and per diem expenses incurred in performing such duties but will not be reimbursed for their time. As a Federal Advisory Committee, the Board's membership is required to be balanced in terms of viewpoints represented and the functions to be performed as well as the interests of geographic regions of the country and the diverse sectors of U.S. society.

The SAB meets in person three times each year, exclusive of teleconferences or subcommittee, task force, and working group meetings. Board members must be willing to serve as liaisons to SAB working groups and/or participate in periodic reviews of the NOAA Cooperative Institutes and overarching reviews of NOAA's research enterprise.

Nominations: Interested persons may nominate themselves or third parties.

Applications: An application is required to be considered for board membership, regardless of whether a person is nominated by a third party or self-nominated. The application package must include: (1) the nominee's full name, title, institutional affiliation, and contact information, including mailing address; (2) the nominee's area(s) of expertise; (3) a short description of their qualifications relative to the kinds of advice being solicited by NOAA in this Notice; and (4) a current resume (maximum length four [4] pages).

David Holst,
Chief Financial Officer/Administrative Officer, Office of Oceanic and Atmospheric Research, National Oceanic and Atmospheric Administration.

[FR Doc. 2023-09156 Filed 4-28-23; 8:45 am]

BILLING CODE 3510-KD-P